Title 3—

The President

Proclamation 8279 of August 25, 2008

National Prostate Cancer Awareness Month, 2008

By the President of the United States of America

A Proclamation

National Prostate Cancer Awareness Month is an opportunity to underscore our commitment to fighting prostate cancer and to raise awareness about this highly treatable disease.

Prostate cancer is the second most common type of cancer found in men, and one in six men will develop it during their lifetime. The cause of prostate cancer remains unknown, but early detection can lead to better treatment and increase the chances of survival. It is important for men to talk to their physicians about risk factors, prevention, and preventive screenings.

My Administration remains committed to helping America's dedicated medical professionals learn more about the cause of prostate cancer and develop new and better ways to combat it. Since 2005, the Cancer Genome Atlas has studied the genetic sources of all types of cancer. By supporting medical research, conducting clinical trials, and developing new surgical techniques to help patients recover quickly, the National Institutes of Health, the National Cancer Institute, and the Centers for Disease Control and Prevention are helping lead the fight against prostate cancer.

During National Prostate Cancer Awareness Month, we remember those who lost the battle against prostate cancer, and we pray for their families and friends. We also remember those living with prostate cancer, celebrate the lives of survivors, and thank all the medical professionals who aid in these victories. By continuing our fight against this disease, we will make our Nation a healthier and more hopeful place.

NOW, THEREFORE, I, GEORGE W. BUSH, President of the United States of America, by virtue of the authority vested in me by the Constitution and laws of the United States, do hereby proclaim September 2008 as National Prostate Cancer Awareness Month. I call upon government officials, businesses, communities, health care professionals, educators, and the people of the United States to reaffirm our Nations strong and ongoing commitment to the fight against prostate cancer.

IN WITNESS WHEREOF, I have hereunto set my hand this twenty-fifth day of August, in the year of our Lord two thousand eight, and of the Independence of the United States of America the two hundred and thirty-third.

[FR Doc. E8-20194

Filed 8-27-08; 8:45 am]

Billing code 3195-01-P